DEPARTMENT OF AGRICULTURE

Farm Service Agency

Information Collection; Guaranteed Farm Loan Programs

AGENCY: Farm Service Agency, USDA.

ACTION: Notice; request for comments.

SUMMARY: In accordance with the Paperwork Reduction Act of 1995, the Farm Service Agency (FSA) is seeking comments from all interested individuals and entities on the extension and revision of currently approved information used in support of the guaranteed Farm Loan Programs (FLP). The collection of information is intended to reduce paperwork burden on program participants and agency employees, make assistance available to more farmers, reduce the costs of the program, and enhance the fiscal integrity of the program.

DATES: Comments on this notice must be received on or before November 17, 2003 to be assured consideration.

ADDRESSES: Comments concerning this notice should be addressed to Tracy L. Jones, Senior Loan Officer, USDA Farm Service Agency, Loan Making Division, 1400 Independence Avenue, SW., Stop 0522, Washington, DC 20250-0522, and to: the Desk Office for Agriculture, Office of Information and Regulatory Affairs, Office of Management and Budget, Washington, DC 20503. Comments may be submitted by email to: tracy_jones@wdc.usda.gov. Copies of the information collection may be obtained by contacting Tracy Jones.

FOR FURTHER INFORMATION CONTACT: Tracy Jones, Loan Making Division, (202) 720-3889.

SUPPLEMENTARY INFORMATION: Title: 7 CFR 762—Guaranteed Farm Loans.

OMB Control Number: 0560-0155.

Expiration Date of Approval: March 31, 2004.

Type of Request: Extension and Revision to a Currently Approved Information Collection.

Abstract: The information collected under OMB Control Number 0560-0155 is needed to effectively administer the FSA guaranteed farm loan programs. The information is collected by the FSA loan official in consultation with participating commercial lenders. The basic objective of the guaranteed loan program is to provide credit to applicants who are unable to obtain credit from lending institutions without a guarantee. The reporting requirements imposed on the public by the regulations at 7 CFR part 762 are necessary to administer the guaranteed loan program in accordance with statutory requirements of the Consolidated Farm and Rural Development Act and are consistent with commonly performed lending practices. Collection of information after loans are made is necessary to protect the Government's financial interest.

Estimate of Respondent Burden: Public reporting burden for the collection of information in this regulation is estimated to average 0.7535 hours per response. Respondents: Commercial Banks, Farm Credit System, farmers and ranchers.

Estimated Number of Respondents: 5,500 lenders, 9,000 loan applicants.

Estimated Number of Responses per Respondent: 49.90 per lender, 2.14 per loan applicant.

Estimated Total Annual Burden on Respondents: 221,360.

Comment is invited on: (a) Whether collection of information is necessary for the above stated purposes and the proper performance of FSA, including whether the information will have practical utility; (b) the accuracy of the agency's estimate of burden, including the validity of the methodology and assumptions used; (c) ways to enhance the quality, utility and clarity of the information being collected; and (d) ways to minimize the burden of the collection of information on those who are to respond, including through the use of appropriate automated, electronic, mechanical, or other technological collection techniques or other forms of information technology.

All comments received in response to this notice, including names and addresses when provided, will be a matter of public record. Comments will be summarized and included in the Office of Management and Budget Approval.

Signed in Washington, DC on September 9, 2003.
James R. Little,
Administrator, Farm Service Agency.

[FR Doc. 03-23529 Filed 9-15-03; 8:45 am]

BILLING CODE 3410-05-P